DEPARTMENT OF VETERANS AFFAIRS

Veterans' Advisory Committee on Rehabilitation (VACOR)

Notice of Meeting

The Department of Veterans Affairs (VA) gives notice under Public Law 92-463 that a meeting of the Veterans' Advisory Committee on Rehabilitation (VACOR), authorized by Public Law 96-466, Subsection 1521, will be held on May 22 through 24, 2001.

The meeting schedule is as follows:

Date | Address | Room number | Time
May 22 | Department of Veterans Affairs, Central Office, 810 Vermont Avenue, NW., Washington, DC 20420 | 230 and 530 | 8 a.m.-5 p.m.
May 23 | Veterans Benefits Administration, 1800 G Street, NW., Washington, DC 20006 | 542 | 9:30 a.m.-4:30 p.m.
May 24 | Veterans Benefits Administration, 1800 G Street NW., Washington, DC 20006 | 542 | 9 a.m.-11:30 p.m.

The purpose of the meeting is to review the quality of the services which the Department of Veterans Affairs provides to disabled veterans who participate in VA-sponsored programs of rehabilitation.

On the morning of May 22, the Committee will hold a joint meeting with the VA Advisory Committee on Prosthetics and Special-Disabilities Programs to discuss mutual issues and concerns. Both Committees will also receive a briefing on the current status of the rehabilitation bed issues by the Chief Consultant of the Rehabilitation Strategic Healthcare Group. At the conclusion of the joint meeting, the Advisory Committee on Rehabilitation will move to room #530 for the remainder of the day. In the afternoon, the Committee will receive briefings regarding veteran demographics and the linkage between the Department of Veterans Affairs and the Department of Labor.

On the morning of May 23, the Committee will receive a briefing on the current status of the Vocational Rehabilitation and Employment (VR&E) program. In the afternoon, the Committee will receive a briefing concerning the recommendations from VR&E's Blue Ribbon Panel of rehabilitation experts. On the morning of May 24, the Committee will discuss future meeting dates, agenda items and recommendations.

The meeting is open to the public. For those wishing to attend, contact Jada G. Jones, Veterans Benefits Administration (28), phone (202) 273-7425, Department of Veterans Affairs, 810 Vermont Avenue, NW., Washington, DC 20420, prior to May 17, 2001.

Dated: April 27, 2001.
By Direction of the Secretary.
Ventris C. Gibson,
Committee Management Officer.

[FR Doc. 01-11030 Filed 5-1-01; 8:45 am]

BILLING CODE 8320-01-M